DEPARTMENT OF HOMELAND SECURITY

Coast Guard

33 CFR Part 117

[CGD05-05-112]

RIN 1625-AA-09

Drawbridge Operation Regulations; James River, VA

AGENCY: Coast Guard, DHS.

ACTION: Notice of temporary deviation from regulations.

SUMMARY: The Commander, Fifth Coast Guard District, has approved a temporary deviation from the regulations governing the operation of the James River Bridge, mile 5.0, across the James River between Isle of Wight and Newport News, Virginia. This deviation allows the drawbridge to remain closed-to-navigation on two 3-day closure periods from 7 a.m. on October 14 through 5 p.m. October 17, 2005, and from 7 a.m. on November 18 through 5 p.m. November 21, 2005, to facilitate mechanical repairs.

DATES: This deviation is effective from 7 a.m. on October 14, 2005, until 5 p.m. on November 21, 2005.

ADDRESSES: Materials referred to in this document are available for inspection or copying at Commander (obr), Fifth Coast Guard District, Federal Building, 1st Floor, 431 Crawford Street, Portsmouth, VA 23704-5004 between 8 a.m. and 4 p.m., Monday through Friday, except Federal holidays. The telephone number is (757) 398-6222. Commander (obr), Fifth Coast Guard District maintains the public docket for this temporary deviation.

FOR FURTHER INFORMATION CONTACT: Bill H. Brazier, Bridge Management Specialist, Fifth Coast Guard District, at (757) 398-6422.

SUPPLEMENTARY INFORMATION: The James River Bridge, a vertical-lift drawbridge, has a vertical clearance in the closed position to vessels of 60 feet and 145 feet in the full open position, at mean high water.

Electrical Motor Services Industrial, Inc. (EMS), is the contractor engaged to perform these repairs for the Virginia Department of Transportation (VDOT), the bridge owner. EMS, on behalf of VDOT, requested a temporary deviation from the operating regulations for the James River Bridge, set out in 33 CFR 117.5, that requires the bridge to open promptly and fully for the passage of vessels when a request to open is given.

EMS requested the temporary deviation to close the James River Bridge to navigation to replace and install the existing motor and coupling. The vertical lift span will be locked in the closed-to-navigation position for two 3-day closure periods: From 7 a.m. on October 14, 2005, through 5 p.m. on October 17, 2005, and from 7 a.m. on November 18, 2005, through 5 p.m. on November 21, 2005. During these periods, the work requires completely immobilizing the operation of the vertical lift span in the closed-to-navigation position.

The Coast Guard has informed the known users of the waterway of the closure periods for the bridge so that these vessels can arrange their transits to minimize any impact caused by the temporary deviation.

The District Commander has granted temporary deviation from the operating requirements listed in 33 CFR 117.35 for the purpose of repairing the drawbridge. The temporary deviation allows the James River Bridge, at mile 5.0, between Isle of Wight and Newport News, Virginia, to remain closed to navigation on two 3-day closure periods: From 7 a.m. on October 14, 2005, through 5 p.m. on October 17, 2005, and from 7 a.m. on November 18, 2005, through 5 p.m. on November 21, 2005.

In accordance with 33 CFR 117.35(c), this work will be performed with all due speed in order to return the bridge to normal operations as soon as possible. This deviation from the operating regulations is authorized under 33 CFR 117.35.

Dated: September 9, 2005.
Waverly W. Gregory, Jr.,
Chief, Bridge Administration Branch, Fifth Coast Guard District.

[FR Doc. 05-18481 Filed 9-15-05; 8:45 am]

BILLING CODE 4910-15-P